DEPARTMENT OF COMMERCE

International Trade Administration

[C-523-811]

Certain Polyethylene Terephthalate Resin From the Sultanate of Oman: Preliminary Negative Countervailing Duty Determination and Alignment of Final Countervailing Duty Determination With Final Antidumping Duty Determination

AGENCY: Enforcement and Compliance, International Trade Administration, Department of Commerce.

SUMMARY: The Department of Commerce (the Department) preliminarily determines that de minimis countervailable subsidies are being provided to producers/exporters of certain polyethylene terephthalate resin (PET resin) from the Sultanate of Oman (Oman). The period of investigation is January 1, 2014, through December 31, 2014. Interested parties are invited to comment on this preliminary determination.

DATES: Effective Date: August 14, 2015.

FOR FURTHER INFORMATION CONTACT: Thomas Martin, AD/CVD Operations, Enforcement and Compliance, International Trade Administration, U.S. Department of Commerce, 14th Street and Constitution Avenue NW., Washington, DC 20230; telephone: (202) 482-3936.

SUPPLEMENTARY INFORMATION: On March 30, 2015, the Department initiated this countervailing duty (CVD) investigation.¹ On the same day, the Department also initiated an antidumping duty (AD) investigation of PET Resin from Oman.² On May 7, 2015, in response to a request from the Petitioners,³ the Department postponed the preliminary determination in the CVD investigation.⁴

¹ See Certain Polyethylene Terephthalate Resin from the People's Republic of China, India, and the Sultanate of Oman: Initiation of Countervailing Duty Investigations, 80 FR 18369 (April 6, 2015).

² See Certain Polyethylene Terephthalate Resin From Canada, the People's Republic of China, India, and the Sultanate of Oman: Initiation of Less-Than-Fair-Value Investigations, 80 FR 18376 (April 6, 2015).

³ DAK Americas, LLC, M&G Chemicals, and Nan Ya Plastics Corporation, America, (Petitioners).

⁴ See Certain Polyethylene Terephthalate Resin From the People's Republic of China, India and the Sultanate of Oman: Postponement of Preliminary Determinations in the Countervailing Duty Investigations, 80 FR 27635 (May 14, 2015).

Alignment of Final Countervailing Duty Determination With Final Antidumping Duty Determination

In accordance with section 705(a)(1) of the Tariff Act of 1930, as amended (the Act) and 19 CFR 351.210(b)(4), and based on Petitioners' request,⁵ we are aligning the final CVD determination in this investigation with the final determination in the companion AD investigation of PET Resin from Oman. Consequently, the final CVD determination will be issued on the same date as the final AD determination, which is currently scheduled to be issued no later than December 21, 2015, unless postponed.⁶

⁵ See Letter from Petitioners, “Investigation of Certain Polyethylene Terephthalate Resin from Oman—Petitioners' Request to Align the Countervailing Duty Final Determination with the Companion Antidumping Duty Final Determination,” (July 31, 2015).

⁶ The actual deadline is 75 days after the date of the preliminary determinations, or December 20, 2015, which is a Sunday. Department practice dictates that where a deadline falls on a weekend or federal holiday, the appropriate deadline is the next business day (in this instance, December 21, 2015). See Notice of Clarification: Application of “Next Business Day” Rule for Administrative Determination Deadlines Pursuant to the Tariff Act of 1930, As Amended, 70 FR 24533 (May 10, 2005).

Scope of the Investigation

The merchandise covered by this investigation is PET resin. The merchandise subject to this investigation is properly classified under subheading 3907.60.00.30 of the Harmonized Tariff Schedule of the United States (HTSUS). Although the HTSUS subheading is provided for convenience and customs purposes, the written description of the merchandise under investigation is dispositive.⁷

⁷ See Memorandum from Christian Marsh, Deputy Assistant Secretary for Antidumping and Countervailing Duty Operations, to Ronald K. Lorentzen, Acting Assistant Secretary for Enforcement and Compliance regarding “Decision Memorandum for the Preliminary Negative Determination in the Countervailing Duty Investigation of Certain Polyethylene Terephthalate Resin from the Sultanate of Oman,” dated concurrently with, and hereby adopted by, this notice (Preliminary Decision Memorandum). For a list of topics discussed in the Preliminary Decision Memorandum, see the Appendix to this notice.

Methodology

The Department is conducting this CVD investigation in accordance with section 701 of the Act. For a full description of the methodology underlying our preliminary conclusions, see the Preliminary Decision Memorandum. The Preliminary Decision Memorandum is a public document and is on file electronically via Enforcement and Compliance's Antidumping and Countervailing Duty Centralized Electronic Service System (“ACCESS”). ACCESS is available to registered users at https://access.trade.gov/login.aspx and is available to all parties in the Central Records Unit, room B8024 of the main Department of Commerce building. In addition, a complete version of the Preliminary Decision Memorandum can be accessed directly on the Internet at http://enforcement.trade.gov/frn/index.html. The signed Preliminary Decision Memorandum and the electronic versions of the Preliminary Decision Memorandum are identical in content.

Preliminary Determination

We preliminarily determine the countervailable subsidy rate to be:

⁸ In accordance with section 703(b)(4) of the Act, we are disregarding de minimis subsidies for the purposes of this preliminary determination.

Company | Subsidy rate
OCTAL SAOC-FZC and OCTAL Holding SAOC | 0.28 percent (de minimis) ⁸

Consistent with section 703(b)(4)(A) of the Act, we have disregarded de minimis rates and preliminarily determine that countervailable subsides are not being provided with respect to the manufacture, production or exportation of the subject merchandise in Oman. Consistent with section 703(d) of the Act, the Department has not calculated an all-others rate because it has not reached an affirmative preliminarily determination. Because the estimated subsidy rate for the examined company is de minimis, we will not direct U.S. Customs and Border Protection to suspend liquidation of entries of subject merchandise from Oman.

Verification

As provided in section 782(i)(l) of the Act, we intend to verify the information submitted by the respondents prior to making our final determination.

International Trade Commission

In accordance with section 703(f) of the Act, we will notify the International Trade Commission (ITC) of our determination. In addition, we are making available to the ITC all non-privileged and non-proprietary information relating to this investigation. We will allow the ITC access to all privileged and business proprietary information in our files, provided the ITC confirms that it will not disclose such information, either publicly or under an administrative protective order, without the written consent of the Assistant Secretary for Enforcement and Compliance. In accordance with section 705(b)(3) of the Act, if our final determination is affirmative, the lTC will make its final determination within 75 days after we make our final determination.

Disclosure and Public Comment

The Department intends to disclose to interested parties the calculations performed in connection with this preliminary determination within five days of its public announcement.⁹ Interested parties may submit case and rebuttal briefs,¹⁰ and request a hearing.¹¹ For a schedule of the deadlines for filing case briefs, rebuttal briefs, and hearing requests, see the Preliminary Decision Memorandum.

⁹ See 19 CFR 351.224(b).

¹⁰ See 19 CFR 351.309(c) and (d).

¹¹ See 19 CFR 351.510.

This determination is issued and published pursuant to sections 703(f) and 777(i) of the Act and 19 CFR 351.205(c).

Dated: August 7, 2015.
Ronald K. Lorentzen,
Acting Assistant Secretary for Enforcement and Compliance.

Appendix—List of Topics Discussed in the Preliminary Decision Memorandum

I. Summary

II. Background

III. Alignment

IV. Scope Comments

V. Scope of the Investigation

VI. Injury Test

VII. Subsidies Valuation

VIII. Analysis of Programs

IX. Calculation of the All Others Rate

X. United States International Trade Commission (ITC) Notification

XI. Disclosure and Public Comment

XII. Verification

XIII. Recommendation

[FR Doc. 2015-20086 Filed 8-13-15; 8:45 am]

BILLING CODE 3510-DS-P